ENVIRONMENTAL PROTECTION AGENCY

[FRL-7155-6]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at 260-4901, or e-mail at Auby.susan@epa.gov, and please refer to the appropriate EPA Information Collection Request (ICR) Number.

SUPPLEMENTARY INFORMATION:

OMB Responses to Agency Clearance Requests

OMB Approvals

EPA ICR No. 1947.02; National Emission Standards for Hazardous Air Pollutants: Solvent Extraction for Vegetable Oil Production; in 40 CFR part 63, subpart GGGG; was approved 01/03/2002; OMB No. 2060-0471; expires 01/31/2005.

EPA ICR No. 0107.07; Source Compliance and State Action Reporting; in 40 CFR part 51, subpart Q; was approved 01/04/2002; OMB No. 2060-0096; expires 01/31/2005.

EPA ICR No. 1626-07; National Recycling and Emissions Reduction Program; in 40 CFR part 82, subpart F; was approved 07/20/2000, OMB No. 2060-0256; expires 07/31/2003.

EPA ICR No. 1284.06; Standards of Performance for New Stationary Sources, Polymeric Coating of Supporting Substrates Facilities, 40 CFR part 60, subpart VVV; was approved 01/04/2002; OMB No. 2060-0181; expires 01/31/2005.

EPA ICR No. 0370.18; Underground Injection Control Program; in 40 CFR parts 144 through 148; was approved 01/09/2002; OMB No. 2040-0042; expires 01/31/2005.

EPA ICR No. 2058.01; Anthrax Decontamination Vendor Letter: Request for Test and supporting information to determine efficacy; was approved 01/15/2002; OMB No. 2050-0183; expires 06/30/2002.

EPA ICR No. 1741.03; Correction of Misreported Chemical Substances on the Toxic Substances Control Act (TSCA) Chemical Substances Inventory; in 40 CFR part 710; was approved 01/25/2002; OMB No. 2070-0145; expires 01/31/2005.

Comments Filed

EPA ICR No. 2029.01; National Emission Standards for Hazardous Air Pollutants: Asphalt Processing and Asphalt Roofing Manufacturing; in 40 CFR part 63, subpart LLLLL; on 01/03/2002 OMB filed comment.

Dated: February 28, 2002.
Oscar Morales,
Director, Collection Strategies Division.

[FR Doc. 02-5744 Filed 3-8-02; 8:45 am]

BILLING CODE 6560-50-P